DEPARTMENT OF AGRICULTURE

Submission for OMB Review; Comment Request

July 16, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Repayment Demand and Program Disqualification.

OMB Control Number: 0584-0492.

Summary of Collection: Section 13(b) of the Food and Nutrition Act of 2008, as amended (7 U.S.C. 2202(b)), and Supplemental Nutrition Assistance Program (SNAP) regulations at 7 CFR 273.18(a)(2) require State agencies to initiate collection action. State agencies must provide an affected household with written notification informing the over-issued household of the claim and demanding repayment.

Need and Use of the Information: State agency personnel will collect the information from individuals collecting SNAP benefits. The State agencies must maintain all records associated with this collection for a period of three years so that FNS can review documentation during compliance reviews and other audits. Without the information, FNS would not be able to correct accidental or fraudulent overpayment errors in the SNAP Program.

Description of Respondents: State, Local, and Tribal Government; Individuals or households.

Number of Respondents: 917,619.

Frequency of Responses: Recordkeeping; Reporting: Annually.

Total Burden Hours: 207,833.705.

Ruth Brown,
Departmental Information Collection Clearance Officer.

[FR Doc. 2014-17097 Filed 7-21-14; 8:45 am]

BILLING CODE 3410-30-P